INTERNATIONAL TRADE COMMISSION

[Investigation Nos. 701-TA-253 and 731-TA-132, 252, 271, 273, 532-534, and 536 (Fifth Review)]

Circular Welded Pipe and Tube From Brazil, India, Mexico, South Korea, Taiwan, Thailand, and Turkey; Cancellation of Hearing for Full Five-Year Reviews

AGENCY: United States International Trade Commission.

ACTION: Notice.

DATES: October 20, 2023.

FOR FURTHER INFORMATION CONTACT: Stamen Borisson (202-205-3125), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: On June 7, 2023, the Commission established a schedule for the conduct of the full five-year reviews (88 FR 39475, June 16, 2023). On October 18, 2023, counsel for Bull Moose Tube Company, Maruichi American Corporation, Nucor Tubular Products Inc., and Zekelman Industries (collectively, “Domestic Producers”) filed a request to appear at the hearing. In their request, counsel for the Domestic Producers requested that the Commission cancel the currently scheduled hearing in the event that no other interested party requested to appear. No other parties submitted a request to appear at the hearing. Counsel indicated a willingness to submit written responses to any Commission questions. Consequently, the public hearing in connection with these reviews, scheduled to begin at 9:30 a.m. on Thursday, October 26, 2023, is cancelled. Parties to these reviews should respond to any written questions posed by the Commission in their posthearing briefs, which are due to be filed on November 6, 2023.

For further information concerning this proceeding see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: October 20, 2023.
Lisa Barton,
Secretary to the Commission.

[FR Doc. 2023-23620 Filed 10-24-23; 8:45 am]

BILLING CODE 7020-02-P